ENVIRONMENTAL PROTECTION AGENCY

[FRL-6574-5]

Notice of Proposed Administrative Settlement Pursuant to the Comprehensive Environmental Response, Compensation, and Liability Act

AGENCY: Environmental Protection Agency.

ACTION: Notice; request for public comment.

SUMMARY: In accordance with section 122(i) of the Comprehensive Environmental Response, Compensation, and Liability Act, as amended (“CERCLA”), 42 U.S.C. 9622(i), notice is hereby given of a proposed administrative settlement concerning the National Zinc Superfund Site, with Cyprus Amax Minerals Company; St. Joe Minerals Corporation, now known as the Doe Run Resources Corporation; Horsehead Industries, Inc. d/b/a Zinc Corporation of America; and Salomon Smith Barney Holdings, Inc. (“Settling Parties”); and the United States Departments of Justice, and State, and the United States General Services Administration (“Settling Federal Agencies”).

The settlement requires the Settling Parties to pay a total of $350,000.00 in reimbursement of Past Response Costs, plus an additional sum for interest on the amount calculated from the date set forth in the definition of Past Response Costs in the Settlement Agreement through the date of payment to the Hazardous Substances Superfund.

As soon as reasonably practicable after the effective date of this Agreement, and consistent with paragraph 12.1(b) of the Settlement Agreement, the United States, on behalf of the Settling Federal Agencies, shall pay to the Environmental Protection Agency Hazardous Substance Superfund $150,000.00 in reimbursement of Past Response Costs, plus an additional sum for interest on that amount calculated from the date set forth in the definition of Past Response Costs in the Settlement Agreement through the date of payment.

The settlement includes a covenant not to sue under section 107 of CERCLA, 42 U.S.C. 9607.

For thirty (30) days following the date of publication of this document, the Agency will receive written comments relating to the settlement. The Agency will consider all comments received and may withdraw or withhold its consent to the proposed settlement if comments received disclose facts or considerations which indicate that the settlement is inappropriate, improper, or inadequate. The Agency's response to any comments received will be available for public inspection at 1445 Ross Avenue, Dallas, Texas 75202-2733.

DATES: Comments must be submitted on or before May 10, 2000.

ADDRESSES: The proposed settlement and additional background information relating to the settlement are available for public inspection at 1445 Ross Avenue, Dallas, Texas, 75202-2733. A copy of the proposed settlement may be obtained from Carl Bolden (6SF-AC), U.S. Environmental Protection Agency Region 6, 1445 Ross Avenue, Dallas, Texas, 75202-2733 at (214) 665-6713. Comments should reference the National Zinc Superfund Site, Bartlesville, Oklahoma and EPA Docket Number 6-02-98, and should be addressed to James E. Costello at the address listed below.

FOR FURTHER INFORMATION CONTACT: James E. Costello (6RC-S), U.S. Environmental Protection Agency 1445 Ross Avenue, Dallas, Texas 75202-2733 at (214) 665-8045.

Dated: March 27, 2000.
Lynda F. Carroll,
Acting Regional Administrator, Region 6.

[FR Doc. 00-8711 Filed 4-7-00; 8:45 am]

BILLING CODE 6560-50-P